DEPARTMENT OF TRANSPORTATION

Federal Aviation Administration

14 CFR Part 71

[Docket No. FAA-2005-21329; Airspace Docket No. 05-AEA-13]

RIN 2120-AA66

Revocation of VOR Federal Airway V-623

AGENCY: Federal Aviation Administration (FAA), DOT.

ACTION: Final rule.

SUMMARY: This action revokes VOR Federal Airway V-623 that extends from the Sparta, NJ, Very High Frequency Omnidirectional Range/Tactical Air Navigation (VORTAC) to the Carmel, NY, Very High Frequency Omnidirectional Range/Distance Measuring Equipment (VOR/DME). The FAA is taking this action due to unsatisfactory navigation signal coverage.

DATES: Effective Date: June 3, 2005.

FOR FURTHER INFORMATION CONTACT: Paul Gallant, Airspace and Rules, Office of System Operations and Safety, Federal Aviation Administration, 800 Independence Avenue, SW., Washington, DC 20591; telephone: (202) 267-8783.

SUPPLEMENTARY INFORMATION:

History

On February 7, 2005, the FAA published in the Federal Register a final rule establishing V-623 (70 FR 6336) with an effective date of May 12, 2005. However, navigation aid signal coverage problems have been identified which remain unresolved. As a result, the FAA has decided to revoke V-623.

The Rule

The FAA is amending title 14 Code of Federal Regulations (14 CFR) part 71 by revoking VOR Federal airway V-623. The FAA is taking this action due to unresolved navigation aid signal coverage problems along segments of the route.

VOR Federal Airways are published in paragraph 6010 of FAA Order 7400.9M dated August 30, 2004 and effective September 16, 2004, which is incorporated by reference in 14 CFR 71.1.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by Reference, Navigation (air).

The Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9M, Airspace Designations and Reporting Points, dated August 30, 2004, and effective September 16, 2004, is amended as follows:

Paragraph 6010(a)—Domestic VOR Federal Airways

* * * * *

V-623 [Revoked]

* * * * *

Issued in Washington, DC, on May 26, 2005.
Edith V. Parish,
Acting Manager, Airspace and Rules.

[FR Doc. 05-11113 Filed 6-2-05; 8:45 am]

BILLING CODE 4910-13-P